DEPARTMENT OF COMMERCE

International Trade Administration

[A-570-970]

Multilayered Wood Flooring From the People's Republic of China: Preliminary Results of the Antidumping Duty Administrative Review, Preliminary Determination of No Shipments, and Rescission of Review, in Part; 2021-2022

AGENCY: Enforcement and Compliance, International Trade Administration, Department of Commerce.

SUMMARY: The U.S. Department of Commerce (Commerce) preliminarily determines that Jiangsu Senmao Bamboo and Wood Industry Co., Ltd. (Senmao) did not make sales of subject merchandise at less than normal value (NV), and that certain companies had no shipments of subject merchandise during the period of review (POR) December 1, 2021, through November 30, 2022. In addition, we are rescinding the review with respect to one company. We invite interested parties to comment on these preliminary results.

DATES: Applicable December 26, 2023.

FOR FURTHER INFORMATION CONTACT: Rebecca Trainor, AD/CVD Operations, Office VIII, Enforcement and Compliance, International Trade Administration, U.S. Department of Commerce, 1401 Constitution Avenue NW, Washington, DC 20230; phone: (202) 482-4007.

SUPPLEMENTARY INFORMATION:

Background

Commerce is conducting an administrative review of the antidumping duty order on multilayered wood flooring (MLWF) from the People's Republic of China (China).¹ The review covers 48 companies, including mandatory respondent, Senmao.

¹ See Initiation of Antidumping and Countervailing Duty Administrative Reviews, 88 FR 7060 (February 2, 2023) (Initiation Notice).

For events that occurred since the Initiation Notice and the analysis behind our preliminary results herein, see the Preliminary Decision Memorandum.² The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included as Appendix I to this notice.

² See Memorandum, “Decision Memorandum for the Preliminary Results of Antidumping Duty Administrative Review: Multilayered Wood Flooring from the People's Republic of China; 2021-2022,” dated concurrently with, and hereby adopted by, this notice (Preliminary Decision Memorandum).

Scope of the Order ³

³ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, Order).

The product covered by the Order is MLWF from China. For a complete description of the scope of this administrative review, see the Preliminary Decision Memorandum.

Partial Rescission of Review

On May 1, 2023, Kahrs International Inc. (Kahrs) timely withdrew its request for review of the Fusong Jinlong Group (Jinlong).⁴ No other parties requested a review of this company.⁵ Accordingly, Commerce is rescinding the administrative review with respect to Jinlong.⁶

⁴ See Kahrs' Letter, “Notice of Withdrawal of Request for 2021-2022 Administrative Review,” dated May 1, 2023.

⁵ Jinlong consists of the following companies: Fusong Jinlong Wooden Group Co., Ltd.; Fusong Qianqiu Wooden Product Co., Ltd.; Dalian Qianqiu Wooden Product Co., Ltd.; and Fusong Jinqiu Wooden Product Co., Ltd.

⁶ See 19 CFR 351.213(d)(1).

Preliminary Determination of No Shipments

Based on an analysis of information from U.S. Customs and Border Protection (CBP), no shipment certifications, and other record information, we preliminarily determine that 23 companies had no shipments of subject merchandise during the POR. For a listing of these companies, see Appendix II of this notice. Consistent with our practice in non-market economy (NME) cases, we are not rescinding this review with respect to these companies but, rather, intend to complete the review and issue appropriate instructions to CBP based on the final results of the review.⁷

⁷ See Non-Market Economy Antidumping Proceedings: Assessment of Antidumping Duties, 76 FR 65694, 65694-95 (October 24, 2011); see also the “Assessment Rates” section, below.

Separate Rates

We preliminarily determine that, in addition to Senmao, two companies not individually-examined are eligible for separate rates in this administrative review, Dalian Deerfu Wooden Product Co., Ltd. (Deerfu) and Dalian Jaenmaken Wood Industry Co., Ltd. (Jaenmaken).⁸ The Tariff Act of 1930, as amended (the Act), and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. For the preliminary results of this review, Commerce has determined the estimated dumping margin for Senmao to be zero.⁹ For the reasons explained in the Preliminary Decision Memorandum, we are assigning this rate to Deerfu and Jaenmaken, i.e., the non-examined respondents which qualify for a separate rate in this review.

⁸ See Preliminary Decision Memorandum at the “Separate Rate Determinations” section for more details.

⁹ See Memorandum, “Preliminary Results Margin Calculation for Jiangsu Senmao Bamboo and Wood Industry Co., Assessment Ltd.,” dated concurrently with this notice.

The China-Wide Entity

Commerce's policy regarding conditional review of the China-wide entity applies to this administrative review.¹⁰ Under this policy, the China-wide entity will not be under review unless a party specifically requests, or Commerce self-initiates, a review of the entity. Because no party requested a review of the China-wide entity, the entity is not under review, and the entity's rate (i.e., 85.13 percent) is not subject to change. See the Preliminary Decision Memorandum for further discussion.

¹⁰ See Antidumping Proceedings: Announcement of Change in Department Practice for Respondent Selection in Antidumping Duty Proceedings and Conditional Review of the Nonmarket Economy Entity in NME Antidumping Duty Proceedings, 78 FR 65963 (November 4, 2013).

Aside from the companies for which we preliminarily find no shipments and the company for which the review is being rescinded, Commerce considers all other companies for which a review was requested and did not demonstrate separate rate eligibility to be part of the China-wide entity.¹¹ For the preliminary results of this review, we consider 21 companies to be part of the China-wide entity. For a listing of these companies, see Appendix II of this notice.

¹¹ See Initiation Notice (“All firms listed below that wish to qualify for separate rate status in the administrative reviews involving NME countries must complete, as appropriate, either a separate rate application or certification, as described below.”). Companies that are subject to this administrative review that are considered to be part of the China-wide entity are listed in Appendix II.

Methodology

We are conducting this administrative review in accordance with sections 751(a)(1)(B) of the Act and 19 CFR 351.213. We calculated export prices for Senmao in accordance with section 772(a) of the Act. Because China is an NME country within the meaning of section 771(18) of the Act, we calculated NV in accordance with section 773(c) of the Act.

Preliminary Results of Review

We preliminarily determine that the following weighted-average dumping margins exist for the POR December 1, 2021, through November 30, 2022:

Exporters | Weighted- average dumping margin (percent)
Jiangsu Senmao Bamboo and Wood Industry Co., Ltd. | 00.00
Dalian Deerfu Wooden Product Co., Ltd. | 00.00
Dalian Jaenmaken Wood Industry Co., Ltd. | 00.00

Disclosure and Public Comment

We intend to disclose the calculations performed for these preliminary results to interested parties with an Administrative Protective Order within five days after the date of publication of these preliminary results.¹²

¹² See 19 CFR 351.224(b).

Pursuant to 19 CFR 351.309(c)(1)(ii), interested parties may submit case briefs no later than 30 days after the date of publication of this notice.¹³ Rebuttal briefs, limited to issues raised in the case briefs, may be filed not later than five days after the date for filing case briefs.¹⁴ Interested parties who submit case briefs or rebuttal briefs in this proceeding must submit: (1) a table of contents listing each issue; and (2) a table of authorities.¹⁵ As provided under 19 CFR 351.309(c)(2) and (d)(2), in prior proceedings we have encouraged interested parties to provide an executive summary of their brief that should be limited to five pages total, including footnotes. In this administrative review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹³ See also 19 CFR 351.303 (for general filing requirements).

¹⁴ See 19 CFR 351.309(d); see also Administrative Protective Order, Service, and Other Procedures in Antidumping and Countervailing Duty Proceedings, 88 FR 67069, 67077 (September 29, 2023) (APO and Service Final Rule).

¹⁵ See 19 351.309(c)(2) and (d)(2).

¹⁶ We use the term “issue” here to describe an argument that Commerce would normally address in a comment of the Issues and Decision Memorandum.

¹⁷ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of the issues to be discussed. Issues raised in the hearing will be limited to those raised in the respective case briefs. An electronically-filed hearing request must be received successfully in its entirety by Commerce's electronic system, ACCESS, by 5 p.m. Eastern Time within 30 days after the date of publication of this notice.¹⁸

¹⁸ See 19 CFR 351.310(c).

Final Results

Unless the deadline is extended, we intend to issue the final results of this administrative review, which will include the results of our analysis of the issues raised in the case briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b).

If Senmao's ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).¹⁹ Commerce will also calculate (estimated) ad valorem importer-specific assessment rates with which to assess whether the per-unit assessment rate is de minimis. We will instruct CBP to assess antidumping duties on all appropriate entries covered by this review when the importer-specific ad valorem assessment rate calculated in the final results of this review is not zero or de minimis.

¹⁹ In these preliminary results, Commerce applied the assessment rate calculation method adopted in Antidumping Proceedings: Calculation of the Weighted-Average Dumping Margin and Assessment Rate in Certain Antidumping Proceedings: Final Modification, 77 FR 8101 (February 14, 2012).

For Deerfu and Jaenmaken, i.e., the respondents that were not selected for individual examination in this administrative review that qualified for a separate rate, the assessment rate will be the separate rate established in the final results of this administrative review. If, in the final results, the respondents' weighted-average dumping margins continue to be zero or de minimis (i.e., less than 0.5 percent), Commerce will instruct CBP to liquidate the appropriate entries without regard to antidumping duties.²⁰

²⁰ See 19 CFR 351.106(c)(2).

For entries that were not reported in the U.S. sales databases submitted by Senmao during this review, and for the 21 companies that do not qualify for a separate rate, Commerce will instruct CBP to liquidate such entries at the China-wide rate (i.e., 85.13 percent).²¹ In addition, if we continue to find no shipments of subject merchandise for the 23 companies for which we preliminarily find no such shipments during the POR,²² any suspended entries of subject merchandise associated with those companies will be liquidated at the China-wide rate.²³

²¹ See Multilayered Wood Flooring from the People's Republic of China: Final Results of Antidumping Duty Administrative Review and Final Determination of No Shipments; 2016-2017, 84 FR 38002 (August 5, 2019).

²² See Appendix II for a list of these companies.

²³ See Non-Market Economy Antidumping Proceedings: Assessment of Antidumping Duties, 76 FR 65694, 65695 (October 24, 2011).

For Jinlong, i.e., the company for which the administrative review is rescinded, antidumping duties shall be assessed at a rate equal to the cash deposit of estimated antidumping duties required at the time of entry, or withdrawal from warehouse, for consumption, in accordance with 19 CFR 351.212(c)(1)(i).

We intend to issue appropriate assessment instructions with respect to Jinlong, i.e., the company for which this administrative review is rescinded, to CBP 35 days after the publication of the preliminary results in the Federal Register. For all other companies that continue to be subject to review, we intend to issue appropriate assessment instructions to CBP 35 days after the publication of the final results in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for all shipments of the subject merchandise from China entered, or withdrawn from warehouse, for consumption on or after the publication date, as provided for by section 751(a)(2)(C) of the Act: (1) for the companies listed above that have a separate rate, the cash deposit rate will be the rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 85.13 percent); and (4) for all non-Chinese exporters of subject merchandise that have not received their own rate, the cash deposit rate will be the rate applicable to Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Notification to Interested Parties

We are issuing and publishing the preliminary results of this review in accordance with sections 751(a)(l) and 777(i)(l) of the Act, and 19 CFR 351.221(b)(4).

Dated: December 19, 2023.
James Maeder,
Deputy Assistant Secretary for Antidumping and Countervailing Duty Operations.

Appendix I

List of Topics Discussed in the Preliminary Decision Memorandum

I. Summary

II. Background

III. Period of Review

IV. Scope of the Order

V. Selection of Respondents

VI. Preliminary Determination of No Shipments

VII. Discussion of the Methodology

VIII. Recommendation

Appendix II

No Shipments

Anhui Longhua Bamboo Product Co., Ltd.

Benxi Flooring Factory (General Partnership)

Dalian Shengyu Science and Technology Development Co., Ltd.

Dongtai Fuan Universal Dynamics, LLC

Dun Hua Sen Tai Wood Co., Ltd.

Dunhua City Dexin Wood Industry Co., Ltd.

Dunhua Shengda Wood Industry Co., Ltd.

HaiLin LinJing Wooden Products Co., Ltd.

Hunchun Xingjia Wooden Flooring Inc.

Huzhou Sunergy World Trade Co., Ltd.

Jiangsu Keri Wood Co., Ltd.

Jiangsu Mingle Flooring Co., Ltd.

Jiangsu Simba Flooring Co., Ltd.

Jiashan On-Line Lumber Co., Ltd.

Kingman Wood Industry Co., Ltd.

Linyi Youyou Wood Co., Ltd.

Pinge Timber Manufacturing (Zhejiang) Co., Ltd.

Power Dekor Group Co., Ltd.

Sino-Maple (Jiangsu) Co., Ltd.

Suzhou Dongda Wood Co., Ltd.

Zhejiang Dadongwu Greenhome Wood Co., Ltd.

Zhejiang Longsen Lumbering Co., Ltd.

Zhejiang Shiyou Timber Co., Ltd.

China-Wide Entity

Benxi Wood Company

Dalian Jiahong Wood Industry Co., Ltd.

Dalian Penghong Floor Products Co., Ltd./Dalian Shumaike Floor Manufacturing Co., Ltd.

Dunhua City Hongyuan Wood Industry Co., Ltd.

Huzhou Chenghang Wood Co., Ltd.

Huzhou Fulinmen Imp. & Exp. Co., Ltd.

Jiangsu Guyu International Trading Co., Ltd.

Jiangsu Yuhui International Trade Co., Ltd.

Jiashan HuiJiaLe Decoration Material Co., Ltd.

Jiaxing Hengtong Wood Co., Ltd.

Lauzon Distinctive Hardwood Flooring, Inc.

Linyi Anying Wood Co., Ltd.

Metropolitan Hardwood Floors, Inc.

Muchsee Wood (Chuzhou) Co., Ltd.

Tongxiang Jisheng Import and Export Co., Ltd.

Yekalon Industry Inc.

Yihua Lifestyle Technology Co., Ltd. (successor-in-interest to Guangdong Yihua Timber Industry Co., Ltd.)

Yingyi-Nature (Kunshan) Wood Industry Co., Ltd.

Zhejiang Fuerjia Wooden Co., Ltd.

Zhejiang Shuimojiangnan New Material Technology Co., Ltd.

Zhejiang Simite Wooden Co., Ltd.

Rescissions

Dalian Qianqiu Wooden Product Co., Ltd., Fusong Jinlong Wooden Group Co., Ltd., Fusong Jinqiu Wooden Product Co., Ltd., and Fusong Qianqiu Wooden Product Co., Ltd. (collectively, Fusong Jinlong Group)

[FR Doc. 2023-28417 Filed 12-22-23; 8:45 am]

BILLING CODE 3510-DS-P